DEPARTMENT OF COMMERCE

Census Bureau

Agency Information Collection Activities; Submission to the Office of Management and Budget (OMB) for Review and Approval; Comment Request; Collection of State/Local Administrative Records and Third-Party Data

AGENCY: Census Bureau, Department of Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed new information collection, prior to the submission of the information collection request (ICR) to OMB for approval.

DATES: To ensure consideration, comments regarding this proposed information collection must be received on or before May 7, 2024.

ADDRESSES: Interested persons are invited to submit written comments by email to Thomas.J.Smith@census.gov. Please reference `Collection of State Administrative Records and Third-Party Data' in the subject line of your comments. You may also submit comments, identified by Docket Number USBC-2024-0005, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Jenny Aramony, Chief of the Data Acquisition Branch in the Economic Reimbursable Surveys Division, email at adrm.pra@census.gov and phone number (301) 763-8715.

SUPPLEMENTARY INFORMATION:

I. Abstract

The U.S. Census Bureau plans to request a new clearance for acquiring administrative records including State, local, and third-party data to improve efficiency and accuracy in their data collections, and to improve measures of the population and economy.

The Census Bureau uses State and local administrative records data linked with other survey and census records, including but not limited to, data from the Survey of Income and Program Participation (SIPP), the Current Population Survey (CPS) and the American Community Survey (ACS) to conduct research and improve operations. The Census Bureau encourages the District of Columbia, all 50 States, and local municipalities to share administrative records data generally associated with, but not limited to: nutrition and food assistance programs, including the Supplemental Nutrition Assistance Program (SNAP) and the Special Supplemental Nutrition Program for Women, Infants and Children (WIC); and welfare programs, including child care subsidy; household self-sufficiency programs, including low income energy assistance programs and Temporary Assistance for Needy Families (TANF). Data sharing and analysis of linked files are solely for statistical purposes, not for program enforcement. All State and local administrative records data are and will remain confidential under title 13, United States Code, section 9, whether in their original form or when comingled or linked.

The Census Bureau will use data from businesses for research, censuses, and surveys operations. This data will be collected from businesses through agreements or contracts. Third-party targeted entities for this acquisition will include cross sector industries such as manufacturing, information services, healthcare, supply chain, and retail.

The Census Bureau uses these records to improve data quality, produce modelbased estimates, improve edits and allocations, and to study program participation over time. The data is to support all the Census Bureau survey and decennial operations as well as social economic research through record linkage. The Census Bureau has undertaken research projects to integrate and link State, local, and third-party administrative records with Census Bureau data from current surveys and censuses.

The Census Bureau uses the State and local administrative records and third-party data linked with other survey and census records to conduct further research and improve operations in surveys and censuses, including 2030 Census Operations. The Census Bureau benefits from these projects by improving data quality and estimates, as well as studies of program participation over time. State and local municipalities data and third-party providers have benefited through access to tabulated data and reports to better understand the demographic characteristics of program participants and to administer their programs.

II. Method of Collection

The Census Bureau will contact the State agencies and third-party providers to discuss how the Census Bureau might use State administrative records and third-party data. After entering into a data sharing agreement with the Census Bureau, a State agency, local municipality, or third-party provider would transfer the agreed-upon administrative records to the Census Bureau via secure File Transfer Protocol or encrypted CD-ROM or DVD-ROM.

Linking records across programs, across States, local municipalities, and third-parties, or over time will be accomplished using a unique linkage identifier called a Protected Identification Key (PIK). Processing to assign a PIK to each person record involves matching based on combinations of name, address, sex, date of birth, and Social Security Number (SSN) data, as available. The person validation and PIK processing has been used by other Census Bureau research and operations projects. Only Census Bureau staff conducting the record linkage have access to files with Personally Identifiable Information, and access to those files assigned a PIK is limited to individuals with a need to know who have met the requirements of Title 13, United States Code, and have appropriate security clearances.

III. Data

OMB Control Number: 0607-XXXX.

Form Number(s): Information will be collected in the form of a data transfer to the Census Bureau. No form will be used.

Type of Review: Regular submission, new information collection request.

Affected Public: State, local, or Tribal government, and third-party providers.

Estimated Number of Respondents: 80 including 19 third-party providers, 10 local municipalities, 50 States and the District of Columbia.

Estimated Time per Response: 75 hours.

Estimated Total Annual Burden Hours: 6,000.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Title 13 U.S.C. 6.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-04998 Filed 3-7-24; 8:45 am]

BILLING CODE 3510-07-P